DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by August 30, 2004.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax (703) 358-2281.

FOR FURTHER INFORMATION CONTACT: Division of Management Authority, telephone (703) 358-2104.

SUPPLEMENTARY INFORMATION:

Endangered Species

The public is invited to comment on the following applications for a permit to conduct certain activities with endangered species. This notice is provided pursuant to section 10(c) of the Endangered Species Act of 1973, as amended (16 U.S.C. 1531, et seq.). Written data, comments, or requests for copies of these complete applications should be submitted to the Director (address above).

Applicant: Jeffrey R. Powell, Yale University, New Haven, Connecticut, PRT-784934.

The applicant requests renewal of a permit to import biological samples from Galapagos tortoises (Geochelone nigra) collected in the wild in Ecuador, for scientific research. This notification covers activities to be conducted by the applicant over a five-year period.

Applicant: Peabody Museum of Natural History, Yale University, New Haven, CT, PRT-087972.

The applicant requests a permit to import biological samples from mouse lemurs (Microcebus species) collected in the wild in Madagascar, for scientific research. This notification covers activities to be conducted by the applicant over a five-year period.

Applicant: Fort Worth Zoological Park, Fort Worth, TX, PRT-088021.

The applicant requests a permit to import four jaguars (Panthera onca) from the Zoologico de Santa Cruz, Santa Cruz, Bolivia, for the purpose of enhancement of the survival of the species through captive propagation and conservation education.

Endangered Marine Mammals and Marine Mammals

The public is invited to comment on the following applications for a permit to conduct certain activities with endangered marine mammals and/or marine mammals. The applications were submitted to satisfy requirements of the Endangered Species Act of 1973, as amended (16 U.S.C. 1531, et seq.) and/or the Marine Mammal Protection Act of 1972, as amended (16 U.S.C. 1361 et seq.), and the regulations governing endangered species (50 CFR part 17) and/or marine mammals (50 CFR part 18). Written data, comments, or requests for copies of the complete applications or requests for a public hearing on these applications should be submitted to the Director (address above). Anyone requesting a hearing should give specific reasons why a hearing would be appropriate. The holding of such a hearing is at the discretion of the Director.

Applicant: Museum of Vertebrate Zoology, UC Berkeley, Berkeley, CA, PRT-084858.

The applicant requests a permit to export a fragment of muscle tissue sample taken from a dead southern sea otter (Enhydra lutris nereis) specimen for the purpose of scientific research on the DNA nucleotide sequence variation in sea otters versus other mustelids for the purpose of understanding the importance of certain proteins in the adaptation to deep diving. This notification covers activities to be conducted by the applicant over a five-year period.

Applicant: U.S. Fish and Wildlife Service, Marine Mammals Management, Anchorage, AK, PRT-041309.

The applicant requests an amendment to their permit which currently authorizes aerial and/or skiff surveys of Northern sea otters (Enhydra lutris lutris) wherever they occur in the State of Alaska, that may result in Level B harassment, for the purpose of scientific research. The applicant requests an extension of those activities and also requests authorization to capture, take biological samples, mark, and release up to 100 animals per year for the purpose of scientific research to assess a wide variety of health parameters and body condition indices. This notification covers activities to be conducted by the applicant over a five-year period.

Concurrent with the publication of this notice in the Federal Register, the Division of Management Authority is forwarding copies of the above applications to the Marine Mammal Commission and the Committee of Scientific Advisors for their review.

Dated: July 9, 2004.
Michael S. Moore,
Senior Permit Biologist, Branch of Permits, Division of Management Authority.

[FR Doc. 04-17286 Filed 7-28-04; 8:45 am]

BILLING CODE 4310-55-P